DEPARTMENT OF COMMERCE

National Oceanic and Atmospheric Administration

50 CFR Part 679

[Docket No. 100413185-0213-01]

RIN 0648-AY84

Groundfish Fisheries of the Exclusive Economic Zone Off Alaska; American Fisheries Act; Recordkeeping and Reporting

AGENCY: National Marine Fisheries Service (NMFS), National Oceanic and Atmospheric Administration (NOAA), Commerce.

ACTION: Proposed rule; request for comments.

SUMMARY: This action would amend the regulations implementing the American Fisheries Act that require cooperatives participating in the directed fishery for pollock in the Bering Sea to prepare and submit preliminary annual reports to the North Pacific Regional Fishery Management Council. The Council determined that the requirement for a preliminary annual report is no longer necessary. However, this proposed action would retain the requirement for the cooperatives to submit a single annual report to the Council. This action is intended to promote the goals and objectives of the Magnuson-Stevens Fishery Conservation and Management Act (Magnuson-Stevens Act) and other applicable laws.

DATES: Comments must be received no later than January 4, 2011.

ADDRESSES: Send comments to Sue Salveson, Assistant Regional Administrator, Sustainable Fisheries Division, Alaska Region, NMFS, Attn: Ellen Sebastian. You may submit comments, identified by RIN 0648-AY84, by any one of the following methods:

• Electronic Submissions: Submit all electronic public comments via the Federal eRulemaking Portal http://www.regulations.gov.

• Fax: 907-586-7557, Attn: Ellen Sebastian.

• Mail: P.O. Box 21668, Juneau, AK 99802.

• Hand Delivery to the Federal Building: 709 West 9th Street, Room 420A, Juneau, AK.

No comments will be posted for public viewing until after the comment period has closed. All comments received are a part of the public record and will generally be posted to http://www.regulations.gov without change. All Personal Identifying Information (for example, name, address) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of this rule, the Regulatory Impact Review (RIR), and the categorical exclusion memorandum may be obtained from the Alaska Region Web site at http://alaskafisheries.noaa.gov.

Written comments regarding the burden-hour estimates or other aspects of the collection-of-information requirements contained in this final rule may be submitted to NMFS Alaska, Sustainable Fisheries Division, e-mailed to OIRA_Submission@omb.eop.gov, or faxed to 202-395-7285.

FOR FURTHER INFORMATION CONTACT: Patsy A. Bearden, 907-586-7228.

SUPPLEMENTARY INFORMATION: NMFS manages the U.S. groundfish fisheries in the Exclusive Economic Zone of the Bering Sea and Aleutian Islands Management Area under the Fishery Management Plan for Groundfish of the Bering Sea and Aleutian Islands Management Area (FMP). The North Pacific Fishery Management Council (Council) prepared the FMP under the Magnuson-Stevens Act. Regulations implementing the FMP appear at subpart F of 50 CFR part 679. General regulations that pertain to U.S. fisheries appear at subpart H of 50 CFR part 600.

Background

In October 1998, Congress enacted the American Fisheries Act (AFA), 16 U.S.C. 1851 note, which “rationalized” the Bering Sea pollock fishery by identifying the vessels and processors eligible to participate in the fishery and allocating pollock among those eligible participants. The AFA allocates 10 percent of the Bering Sea pollock total allowable catch to the Western Alaska Community Development Quota (CDQ) Program. After subtracting the CDQ Program allocation, and an amount set aside for the catch of pollock in other Bering Sea fisheries, the AFA allocates the remaining available pollock quota (the “directed fishing allowance”) among the AFA inshore sector (50 percent), the AFA catcher/processor sector (40 percent), and the AFA mothership sector (10 percent).

The AFA allowed for development of pollock fishing cooperatives in the non-CDQ sectors. Thirteen cooperatives were developed as a result of the AFA: Ten inshore catcher vessel cooperatives, two offshore catcher/processor cooperatives, and one mothership cooperative. The cooperatives further subdivide each cooperative's pollock allocation among vessel owners in the cooperative through private contractual agreements. The cooperatives manage these allocations to optimize their harvest and to ensure that individual vessels and companies do not harvest more than their agreed upon share of pollock. The cooperatives also enforce contract provisions and participate in an intercooperative agreement to reduce salmon bycatch by the directed pollock fishery.

The regulations establishing the AFA cooperative reporting requirements were first published in December 30, 2002 (67 FR 79692). These regulations require that each cooperative prepare preliminary and final annual reports describing the cooperative's harvest of pollock, prohibited species, and non-pollock groundfish, including species for which NMFS establishes annual sideboards that limit incidental catch by AFA participants. The purpose of the annual reports is, “to assist the Council and NMFS in meeting the requirements of section 210(a)(1) of the AFA, which requires that NMFS make that information available to the public in a manner that NMFS and the Council decide is appropriate.” 67 FR 79692. Another purpose of the cooperatives' AFA cooperative annual report is to provide the Council information upon which it can make decisions on cooperative allocations and sideboard protection measures.

Currently, all AFA cooperatives must submit both preliminary and final annual written reports on directed pollock fishing activity to the Council. The preliminary report is due on December 1, one month after the pollock fishery's closure on November 1, while the final report is due on April 1 of the following year. The two reports result from the Council's recognition that one month following the fishery's closure may not be enough time for the AFA cooperative representatives to compile all of the required information for the annual report. Requiring cooperatives to file a second report also allowed cooperatives to update catch and bycatch data after the end of the year.

In August 2010, NMFS changed the deadline for submission of the final AFA cooperative annual report from February 1 to April 1. (75 FR 53026) This new date allows the AFA cooperative report to arrive about the same time as the annual Chinook Salmon Prohibited Species Catch (PSC) Incentive Plan Agreement (IPA) and Non-chinook Salmon Inter-Cooperative Agreement (ICA) reports, which describe salmon PSC in the Bering Sea pollock fisheries.

In recent years, the Council has found that the preliminary AFA cooperative report is not necessary to develop recommendations on final groundfish specifications or on cooperative allocations and sideboard protection measures. The Council instead uses the stock assessment reports provided by the Council's Groundfish BSAI Plan Team, and the total allowable catch (TAC) recommendations provided at the December Council meeting to develop these recommendations.

The Stock Assessment and Fishery Evaluation (SAFE) reports for the groundfish fisheries managed by the Council are compiled by the respective Plan Teams from chapters contributed by scientists at the NMFS Alaska Fisheries Science Center and the State of Alaska Department of Fish and Game. These SAFE reports include separate stock assessment and fishery evaluation sections. The stock assessment section includes recommended acceptable biological catch (ABC) levels for each stock and stock complex managed under the FMP. For purposes of determining TACs, the data provided in these reports is a sufficient substitute for that which is provided by the preliminary reports on the pollock fishery from the cooperatives. The Council considers the ABC recommendations, together with social and economic factors, in determining TACs and other management strategies for the fisheries.

Therefore, at its June 2010 meeting, the Council determined that, combined with the SAFE Report and TAC recommendations, a single annual report from each AFA cooperative, renamed the “annual AFA cooperative report,” will provide sufficient information to the Council, the industry and the public about the directed fisheries for pollock in the Bering Sea. If this proposed rule is enacted, the cooperatives will be required to submit one report containing the same information previously contained in two reports.

Each AFA cooperative annual report would be required to provide the following information:

• How the cooperative allocated pollock, other groundfish species, and prohibited species catch among the vessels in the cooperative;

• The catch and discard of these species by area for each vessel in the cooperative;

• How the cooperative monitored fishing by its members; and

• A description of any actions taken by the cooperative to penalize any vessel that exceeded the allocations made to the vessel by the cooperative.

This action does not result in a substantial change in the reporting requirements. Some decrease in miscellaneous costs might occur due to postage cost differences. It is also possible that the burden would decrease due to planning and writing of one report instead of two reports, one revising the other.

Classification

Pursuant to Section 304(b)(1)(A) of the Magnuson-Stevens Act, the NMFS Assistant Administrator for Fisheries has determined that this proposed rule is consistent with the FMP, other provisions of the Magnuson-Stevens Act, and other applicable law, subject to further consideration after public comment.

The Chief Counsel for Regulation of the Department of Commerce certified to the Chief Counsel for Advocacy of the Small Business Administration that this proposed rule, if adopted, would not have a significant economic impact on a substantial number of small entities. The basis of this certification is as follows.

The purpose of this proposed regulatory change is to remove a preliminary reporting requirement for pollock fishery cooperatives. These preliminary fishery reports are no longer necessary, and NMFS can obtain the same information from other reports and from a single annual report from the regulated cooperatives. The proposed action will not increase any of the costs, which are small (see below), imposed by the current regulations, and is instead likely to reduce them.

Specifically, the impact of this action will be twofold: (1) Cooperatives will not be required to submit a preliminary report, as well as a final report, thereby reducing their preparation and filing costs; and (2) the Council will realize reduced administrative costs, since it will no longer have to receive and process a preliminary report as well as a final report. As noted above, if this rule is promulgated, entities will no longer be required to produce a preliminary report. The elimination of this requirement will impose no costs on any entity that previously produced these reports; rather, it will reduce their costs. Thus, this action has a net benefit to directly regulated entities.

There are thirteen entities that, under the current regulations, must file reports with NMFS. These entities are fishing cooperatives that developed as a result of the AFA: Ten inshore catcher vessel cooperatives, one cooperative for catcher vessels delivering to catcher/processors, two offshore cooperatives for catcher/processors, and one for catcher vessels delivering to motherships. Under the Small Business Administration's (SBA) regulations implementing the RFA, a small fishing business is defined as an entity that receives annual revenues of no more than $4 million. All of the fishing cooperatives currently subject to this rule have annual revenues of greater than $4 million, and therefore none of these cooperatives is a small entity as defined by SBA.

Moreover, this rule, if implemented, will reduce the costs to all entities affected by the rule. NMFS estimates that thirteen AFA cooperative reports are submitted per year. Each of these is required to submit an annual report. The total time required for a firm to prepare and file both its preliminary and final reports is estimated to be 12 hours for each respondent. Thus, at $75/hour, the total estimated cost for submitting both reports currently is $900. This action would permit some reduction in these costs, because the estimated burden for the annual report is 8 hours for a total estimated cost of $600. The estimated total savings would be $300, a rough estimate of the likely upper bound cost savings. The Council is estimated to incur $275 in costs for processing these preliminary reports. There would be some cost savings here, as well. Further analysis of the economic impact is found in the RIR, available at ADDRESSES above. The RIR describes the potential size, distribution, and magnitude of the economic impacts that this action may have on affected entities.

Based upon the above analysis, the proposed rule would not impose economic impacts on any of the affected entities. Accordingly, an initial regulatory flexibility analysis is not required, and none has been prepared.

This proposed rule has been determined to be not significant for purposes of Executive Order 12866.

This proposed rule contains collection-of-information requirements subject to the Paperwork Reduction Act (PRA), and which have been approved by the Office for Management and Budget (OMB) under OMB Control Number 0648-0401. Notwithstanding any other provision of the law, no person is required to respond to, and no person shall be subject to penalty for failure to comply with, a collection of information subject to the requirements of the PRA, unless that collection of information displays a currently valid OMB control number.

Public reporting burden per response is estimated to average 8 hours for an AFA preliminary annual report and 4 hours for an AFA final annual report. The AFA preliminary annual report would be removed with this action and the AFA final annual report would be renamed the AFA cooperative annual report, which is estimated to average 8 hours per response.

These estimates of public reporting burden include the time for reviewing instructions, searching existing data sources, gathering and maintaining the data needed, and completing and reviewing the collection-of-information.

Send comments regarding this burden estimate or any other aspect of this data collection, including suggestions for reducing the burden, to NMFS (see ADDRESSES); e-mail to OIRA_Submission@omb.eop.gov or fax to 202-395-7285.

List of Subjects in 50 CFR Part 679

Alaska, Fisheries, Reporting and recordkeeping requirements.

Dated: December 15, 2010.
John Oliver,
Deputy Assistant Administrator for Operations, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1801 et seq.; 3631 et seq.; Pub L. 108-447.

2. In § 679.61, revise (f) introductory text, paragraph (f)(1), and paragraph (f)(2) introductory text to read as follows:

§ 679.61 Formation and operation of fishery cooperatives.

* * * * *

(f) Any fishery cooperative governed by this section must submit an annual written report on fishing activity to the North Pacific Fishery Management Council, 605 West 4th Avenue, Suite 306, Anchorage, AK 99501. The Council will make copies of each report available to the public upon request.

(1) What is the submission deadline? The cooperative must submit the annual report by April 1 of each year. Annual reports must be postmarked or received by the submission deadline.

(2) What information must be included? The annual report must contain, at a minimum:

* * * * *

[FR Doc. 2010-31918 Filed 12-17-10; 8:45 am]

BILLING CODE 3510-22-P